ENVIRONMENTAL PROTECTION AGENCY

[EPA-HQ-OECA-2013-0313; FRL-9902-23-OEI]

Information Collection Request Submitted to OMB for Review and Approval; Comment Request; NSPS for Stationary Gas Turbines (Renewal)

AGENCY: Environmental Protection Agency (EPA).

ACTION: Notice.

SUMMARY: The Environmental Protection Agency has submitted an information collection request (ICR), “NSPS for Stationary Gas Turbines (Renewal)” (EPA ICR No. 1071.11, OMB Control No. 2060-0028), to the Office of Management and Budget (OMB) for review and approval in accordance with the Paperwork Reduction Act (44 U.S.C. 3501 et seq). This is a proposed extension of the ICR, which is currently approved through December 31, 2013. Public comments were previously requested via the Federal Register (78 FR 33409) on June 4, 2013, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 13, 2013.

ADDRESSES: Submit your comments, referencing Docket ID Number EPA-HQ-OECA-2013-0313, to: (1) EPA online, using www.regulations.gov (our preferred method), by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

It is EPA's policy that all comments received will be included in the public docket without change including any personal information provided, unless the comment includes profanity, threats, information claimed to be Confidential Business Information (CBI), or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION:

Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: The NSPS for Stationary Gas Turbines were proposed on October 3, 1977, and promulgated on September 10, 1979. Owners and operators of stationary gas turbines must submit a one-time-only notification report of construction/reconstruction, modification, and startup date, initial performance test date, physical or operational changes, and demonstration of a continuous monitoring system. They also must provide a report on initial performance test result, monitoring results, and any excess emissions. Records must be maintained for the following topics: startups, shutdowns, and malfunctions; periods when the continuous monitoring system is inoperative; sulfur and nitrogen content of the fuel; fuel to water ratio; rate of fuel consumption; and ambient conditions. Semiannual reports are also required.

Form Numbers: None.

Respondents/affected entities: Stationary gas turbines.

Respondent's obligation to respond: Mandatory (40 CFR part 60, subpart GG).

Estimated number of respondents: 535 (total).

Frequency of response: Initially and semiannually.

Total estimated burden: 68,447 hours (per year). “Burden” is defined at 5 CFR 1320.3(b).

Total estimated cost: $6,695,243 (per year), which includes zero annualized capital or operation & maintenance costs.

Changes in the Estimates: There is no change in the number of affected facilities or the number of burden hours as currently identified in the OMB Inventory of Approved Burdens. However, there is an increase in the estimated labor costs for industry and a decrease in the estimated labor costs for the Agency when compared to the previous ICR. This is not due to any program changes. They are the result of updated industry labor rates, which resulted in an increase in industry labor costs; and of a mathematical correction to the Agency cost estimate in the previous ICR.

John Moses,
Director, Collection Strategies Division.

[FR Doc. 2013-27057 Filed 11-12-13; 8:45 am]

BILLING CODE 6560-50-P